EXPORT-IMPORT BANK OF THE UNITED STATES

Sunshine Act Meeting; Notice of a Partially Open Meeting of the Board of Directors of the Export-Import Bank of the United States

TIME AND PLACE: Thursday, November 15, 2012 at 9:30 a.m. The meeting will be held at Ex-Im Bank in Room 321, 811 Vermont Avenue NW., Washington, DC 20571.

OPEN AGENDA ITEMS: Item No. 1: Ex-Im Bank Advisory Committee for 2013.

Note: This item was originally scheduled for discussion on November 1, 2012. However, the meeting was cancelled due to Federal Government closures because of inclement weather earlier in the week.

PUBLIC PARTICIPATION: The meeting will be open to public observation for Item No. 1 only.

FURTHER INFORMATION: For further information, contact: Office of the Secretary, 811 Vermont Avenue NW., Washington, DC 20571, (202) 565-3336.

Lisa V. Terry,
Assistant General Counsel.

[FR Doc. 2012-27474 Filed 11-7-12; 8:45 am]

BILLING CODE 6690-01-P